DEPARTMENT OF THE INTERIOR

National Park Service

Availability of Environmental Assessment for the Proposed Expansion of the Westfield River's National Wild and Scenic River Designation, Massachusetts

AGENCY: National Park Service, Interior.

ACTION: Publication of environmental assessment for public comment.

SUMMARY: The National Park Service is publishing for public review and comment an environmental assessment on designating additional miles to the Westfield River, Massachusetts, National Wild and Scenic River. The National Park Service has found that the Westfield River, Massachusetts (Upper East Branch and Tributaries: Drowned Land Brook; Center Brook; Windsor Jambs Brook—Towns of Savoy and Windsor; Headwater Tributaries of the West Branch: Shaker Mill Brook; Depot Brook; Savery Brook; Watson Brook; Center Pond Brook—Towns of Becket and Washington; Lower Middle Branch, East Branch and Main Stem—Town of Huntington) is eligible for the national system and concludes that designation of the additional sections of the river is the preferred alternative.

DATES: Comments must be postmarked June 4, 2004.

ADDRESSES: Copies of the environmental assessment are available for public inspection at: National Park Service, Boston Support Office, 15 State Street, Boston, MA 02109; National Park Service, 1201 Eye Street, NW., Washington, DC 20240-0001. Hours of availability are between 8:30 a.m. and 4:30 p.m., Monday through Friday, except holidays. Copies of the draft report maybe obtained from Jamie Fosburgh, National Park Service, Boston Support Office, 15 State Street, Boston, MA 617-223-5191.

Comments should be directed to the National Park Service, Boston Support Office, attention Jamie Fosburgh at the address above or e-mailed to Jamie Fosburgh@nps.gov.

FOR FURTHER INFORMATION CONTACT: Jamie Fosburgh, National Park Service, Boston Support Office, 15 State Street, Boston, MA 617-223-5191.

SUPPLEMENTARY INFORMATION: On April 26, 2002, Acting Governor Jane Swift of the Commonwealth of Massachusetts petitioned the Secretary of the Interior to extend the Westfield River's Wild and Scenic designation to include additional segments of the river and its headwaters (34.8 miles) under the National Wild and Scenic Rivers Act. The sections of river under consideration includes the Upper East Branch and Tributaries: Drowned Land Brook; Center Brook; Windsor Jambs Brook in the Towns of Savoy and Windsor; the Headwater Tributaries of the West Branch: Shaker Mill Brook; Depot Brook; Savery Brook; Watson Brook; Center Pond Brook in the Towns of Becket and Washington; and the Lower Middle Branch, East Branch and Main Stem in the Town of Huntington. Under section 2(a)(ii) of the National Wild and Scenic Rivers Act (16 U.S.C. 1273(a)(ii)), the Secretary has the authority to add a river to the National System at the request of a State, provided the State has met certain prior conditions and the river meets eligibility criteria, based upon an evaluation of natural and cultural resources.

Upon the request of a State governor to the Secretary of the Interior, the National Park Service, acting for the Secretary, undertakes an evaluation of the State's request. As a result of the evaluation and the subsequent environmental assessment, the National Park Service has concluded that all requirements were fully met for the designation extension for the Westfield River. Review of public comments on the environmental assessment is required before the Service can forward a recommendation of designation to the Secretary of Interior.

Dated: April 2, 2004.
D. Thomas Ross,
Assistant Director, Recreation and Conservation, National Park Service.

[FR Doc. 04-10144 Filed 5-4-04; 8:45 am]

BILLING CODE 4310-51-M